DEPARTMENT OF DEFENSE

Office of the Secretary

Strategic Environmental Research and Development Program Scientific Advisory Board; Notice of Federal Advisory Committee Meeting

AGENCY: Under Secretary of Defense for Acquisition and Sustainment (USD(A&S)), Department of Defense (DoD).

ACTION: Notice of Federal advisory committee meeting.

SUMMARY: The DoD is publishing this notice to announce that the following Federal advisory committee meeting of the Strategic Environmental Research and Development Program (SERDP) Scientific Advisory Board (SAB) will take place.

DATES: SERDP SAB will hold a meeting open to the public. Day 1—Tuesday, October 15, 2024, from 10 a.m. to 4:05 p.m. EDT. Day 2—Wednesday, October 16, 2024, from 10 a.m. to 5 p.m. EDT.

ADDRESSES: The meeting will be accessible by videoconference. Information for accessing the videoconference is provided in SUPPLEMENTARY INFORMATION, “Meeting Accessibility.”

FOR FURTHER INFORMATION CONTACT: Dr. Kimberly Spangler, Designated Federal Officer (DFO) 703-571-2477 (voice), kimberly.y.spangler.civ@mail.mil (email). Mailing address is SERDP Office, 3500 Defense Pentagon, Rm. 5C646, Washington, DC 20301-3500. Website: https://serdp-estcp.org/about. The most up-to-date changes to the meeting agenda can be found on the website.

SUPPLEMENTARY INFORMATION: This meeting is being held under the provisions of chapter 10 of title 5, United States Code (U.S.C.) (commonly known as the “Federal Advisory Committee Act” or “FACA”) and 41 CFR 102-3.140 and 102-3.150.

Availability of Materials for the Meeting: Additional information, including the agenda or any updates to the agenda, is available on https://serdp-estcp.mil/about/programs?Id=b7ba8fa2-c6b0-4ae3-bdcd-50a3461ef4d9. Purpose of the Meeting: The purpose of the meeting is for the SERDP SAB to make recommendations regarding technologies, research, projects, programs, activities, and, if appropriate, funding within the scope of SERDP Fiscal Year (FY) 2025.

Agenda: Tuesday, October 15, 2024, from 10:00 a.m. to 4:05 p.m.—Convene, SAB Business, Weapons Systems and Platforms Statement of Need Overview and Proposals, Resource Conservation and Resilience Statement of Need Overview and Proposals, Voting on Fiscal Year 2026 Recommendations, Public Comment Period, and Adjourn.

Wednesday, October 16, 2024, from 10:00 a.m. to 5:00 p.m.—Convene, Resource Conservation and Resilience Statement of Need Overview and Proposals, Voting on Fiscal Year 2026 Recommendations, SAB Business, Public Comment Period, and Adjourn.

Meeting Accessibility: Pursuant to 5 U.S.C. 1009(a) and 41 CFR 102-3.140 through 102-3.165, this meeting is open to the public. The meeting will be held via videoconference. If you wish to attend, you must register at this link: https://www.zoomgov.com/j/1619982980?pwd=YVQ3WFRRajQ1TFJ0SHJ6VUNHSkRkZz09.

Once registered, the web address and audio number will be provided. For purposes of transparency and attendance reporting you will be required to use your actual first name and last name as your username and provide your affiliation.

Special Accommodations: Individuals requiring special accommodations to access the public meeting should contact Dr. Kimberly Spangler at 703-571-2477 (voice) no later than Wednesday, October 9, 2024 (by 5:00 p.m. EST) so that appropriate arrangements can be made.

Written Statements: Pursuant to 41 CFR 102-3.140 and 5 U.S.C. 1009(a)(3), interested persons may submit a written statement to the SERDP SAB. Individuals submitting a statement must submit their statement no later than 5:00 p.m. EST, Friday, October 11, 2024, to kimberly.y.spangler.civ@mail.mil (email) or to 703-571-2477 (voice). If a statement pertaining to a specific topic being discussed at the planned meeting is not received by Friday, October 11, 2024, prior to the meeting, then it may not be provided to, or considered by, the SERDP SAB during the October 15-16, 2024 meeting. The DFO, Dr. Kimberly Spangler will review all timely submissions with the SERDP SAB Chair and ensure such submissions are provided to the members of the SERDP SAB before the meeting.

Public Comment Period: Just before the meeting adjourns the SERDP SAB Chair will ask those in the virtual meeting if there are any oral public comments. If there are, the chair will call on each person to speak. The individual will have up to 5 minutes to address the board. After oral comments, any comments submitted to the DFO will be read aloud.

Dated: September 20, 2024.
Aaron T. Siegel,
Alternate OSD Federal Register Liaison Officer, Department of Defense.

[FR Doc. 2024-21966 Filed 9-24-24; 8:45 am]

BILLING CODE 6001-FR-P